DEPARTMENT OF COMMERCE

International Trade Administration

[A-351-840]

Certain Orange Juice From Brazil: Notice of Rescission of Antidumping Duty Administrative Review

AGENCY: Import Administration, International Trade Administration, Department of Commerce.

FOR FURTHER INFORMATION CONTACT: Elizabeth Eastwood or Blaine Wiltse, Import Administration, International Trade Administration, U.S. Department of Commerce, 14th Street and Constitution Avenue NW., Washington, DC 20230; telephone: (202) 482-3874 or (202) 482-6345, respectively.

SUPPLEMENTARY INFORMATION:

Background

On March 1, 2012, the Department of Commerce (the Department) published in the Federal Register a notice of “Opportunity to Request Administrative Review” of the antidumping duty order on certain orange juice (OJ) from Brazil for a period of review (POR) of March 1, 2011, through February 29, 2012.¹

¹ See Antidumping or Countervailing Duty Order, Finding, or Suspended Investigation; Opportunity To Request Administrative Review, 77 FR 12559 (Mar. 1, 2012).

On March 30, 2012, in accordance with section 751(a) of the Tariff Act of 1930, as amended (the Act), and 19 CFR 351.213(b), the Department received a timely request from Southern Gardens Citrus Processing Corporation (Southern Gardens), a domestic interested party, to conduct an administrative review of the sales of the following companies: Citrovita Agro Industrial Ltd. (Citrovita); Coinbra-Frutesp S.A. (Coinbra Frutesp); Fischer S.A. Comercio, Industria and Agricultura (Fischer); Montecitrus Trading S.A. (Montecitrus); and Sucocitrico Cutrale Ltda. (Cutrale). Southern Gardens was the only party to request this administrative review.

On April 13, 2012, the International Trade Commission determined that revocation of the antidumping duty order on OJ from Brazil would not be likely to lead to continuation or recurrence of material injury to an industry in the United States within a reasonably foreseeable time, pursuant to section 751(c) of the Act. Therefore, on April 20, 2012, the Department revoked the antidumping duty order on OJ from Brazil effective March 9, 2011.²

² See Revocation of Antidumping Duty Order: Certain Orange Juice From Brazil, 77 FR 23659 (Apr. 20, 2012).

On April 30, 2012, the Department published in the Federal Register a notice of initiation of an administrative review of the antidumping duty order on OJ from Brazil with respect to Citrovita, Coinbra Frutesp, Cutrale, Fischer, and Montecitrus.³ As a result of the revocation of the antidumping duty order, the POR of this administrative review is March 1, 2011, through March 8, 2011. Id.

³ See Initiation of Antidumping and Countervailing Duty Administrative Reviews and Request for Revocation in Part, 77 FR 25401 (Apr. 30, 2012).

On May 11, 2012, Southern Gardens timely withdrew its request for reviews of Citrovita, Coinbra Frutesp, Cutrale, Fischer, and Montecitrus.

Rescission of Administrative Review

Pursuant to 19 CFR 351.213(d)(1), the Department will rescind an administrative review, in whole or in part, if the parties that requested a review withdraw the request within 90 days of the date of publication of notice of initiation of the requested review. Southern Gardens withdrew its request for review before the 90-day deadline, and no other party requested an administrative review of the antidumping duty order on OJ from Brazil for the POR. Therefore, in response to Southern Garden's withdrawal of its request for review, and pursuant to 19 CFR 351.213(d)(1), the Department is rescinding in whole the administrative review of the antidumping duty order on OJ from Brazil for the period March 1, 2011, through March 8, 2011.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 777(i)(1) of the Act, and 19 CFR 351.213(d)(4).

Dated: May 16, 2012.
Christian Marsh,
Deputy Assistant Secretary for Antidumping and Countervailing Duty Operations.

[FR Doc. 2012-12512 Filed 5-22-12; 8:45 am]

BILLING CODE 3510-DS-P